DEPARTMENT OF DEFENSE

Department of the Army, Corps of Engineers

Upper Columbia Alternative Flood Control and Fish Operations, Libby and Hungry Horse Dams, MT

AGENCY: Corps of Engineers, DoD.

ACTION: Notice of Availability of Draft Environmental Impact Statement and Notice of Public Hearings; correction.

SUMMARY: On November 10, 2005, the Corps of Engineers and the Bureau of Reclamation, Interior, issued a Notice of Availability of a Draft Environmental Impact Statement (DEIS) and Notice of Public Hearings (see 70 CFR 68409). The due date for comments period provided in the DATES section of that notice was incorrectly identified as December 27, 2005. The correct due date for comments is January 3, 2006 (45 days from the November 18, 2005, Federal Register publication date of the EPA weekly notice of DEIS availability).

Dated: December 13, 2005.
Debra M. Lewis,
District Engineer, Seattle District, U.S. Army Corps of Engineers.

[FR Doc. E5-7610 Filed 12-20-05; 8:45 am]

BILLING CODE 3710-92-P